SMALL BUSINESS ADMINISTRATION

Council on Underserved Communities, Establishment of and Request for Nominations

AGENCY: U.S. Small Business Administration (SBA).

ACTION: Notice of creation of Council on Underserved Communities and request for nominations.

SUMMARY: Pursuant to the Federal Advisory Committee Act and its implementing regulations, SBA is issuing this notice to announce the creation of its Council on Underserved Communities. This advisory committee is being established to help the agency identify and address needs of small businesses in underserved urban and rural communities. With this notice SBA is also requesting nominations for members of this Council.

DATES: Submit nominations on or before 5 p.m. EST January 31, 2011.

FOR FURTHER INFORMATION CONTACT: Questions about the Council on Underserved Communities may be directed to Dan Jones, telephone (202) 205-7583, fax (202) 481-6536, e-mail dan.jones@sba.gov or mail, U.S. Small Business Administration, 409 3rd Street, SW. 7th Floor, Washington DC 20416.

SUPPLEMENTARY INFORMATION: Pursuant to its authority in section 8(b)(13) of the Small Business Act, (15 U.S.C. 637(b)), SBA is establishing the Council on Underserved Communities. This discretionary committee is being established in accordance with the provisions of the Federal Advisory Committee Act, as amended (5 U.S.C. App.).

The Council will provide advice, ideas and opinions on SBA programs and services and issues of interest to small businesses in underserved communities. Its members provide an essential connection between SBA and small businesses in inner city and rural communities. The Council's scope of activities includes reviewing SBA current programs and policies, while working towards creating new and insightful place-based initiatives to spur economic growth, job creation, competiveness, and sustainability.

Council members will bring a number of important points of views to the Council: an understanding of the barriers to success for small business owners in underserved communities; experience working in and operating businesses in urban and rural underserved communities; challenges regarding access to capital; knowledge and experience in training and counseling entrepreneurs in underserved communities; and associations representing owners of small business in underserved communities.

The Council will have a total of twenty (20) members, 19 members-at-large and one Chair. Members may consist of current or former small business owners, community leaders, officials from small business trade associations, and academic institutions. Members shall represent the interests of underserved communities across the country, both rural and urban.

Request for Nominations

SBA is requesting nominations for the Council on Underserved Communities and encourages all qualified candidates to apply. Candidates may self nominate or be nominated by another source. SBA will be accepting nominations for membership through January 31, 2011. Please e-mail contact information and a resume or bio to underservedcouncil@sba.gov.

Qualifications

SBA is asking for nominations to fill the 19 at-large Council members. Members must represent at least one of the following constituencies: current or former small business owners; community leaders; small business trade associations; or academic institutions. SBA seeks candidates representing both urban and rural underserved communities.

Status

All members serve at the pleasure of the SBA Administrator and will be considered representatives. Members will not be paid for participation however, the Agency will pay travel and per diem expenses while members are attending required meetings. Council members are expected to attend all required meetings. Some meetings may be held via conference call. Initially, nine (9) members will be appointed for a term of 2 years and eleven (11) members will be appointed for a term of 3 years. Thereafter, members will be appointed for two (2) year terms and may not serve more than three (3) terms unless SBA terminates membership sooner.

Nomination Process

Nominees should send a letter of self-nomination or a letter of nomination from a peer, professional organization or society or member of Congress. This letter must indicate which category the nominee will represent and highlight accomplishments and experience working with small businesses in urban or rural underserved communities, including personal experience as a small business owner located in an underserved community. The letter should also include the following information: full name of nominee, occupation, physical address, telephone number, and e-mail address.

All nominees are subject to a conflict of interest determination by SBA and will not be considered eligible until such determination is made. Nominees may be asked to submit additional information. Nominations must be sent to Dan Jones at underservedcouncil@sba.gov.

Dated: December 16, 2010.
Dan Jones,
SBA Committee Management Officer.

[FR Doc. 2010-32097 Filed 12-21-10; 8:45 am]

BILLING CODE 8025-01-P